INTERNATIONAL TRADE COMMISSION

[Inv. No. 337-TA-792]

In the Matter of Certain Static Random Access Memories and Products Containing Same; Notice of Institution of Investigation; Institution of Investigation Pursuant to 19 U.S.C. 1337

AGENCY: U.S. International Trade Commission.

ACTION: Action.

SUMMARY: Notice is hereby given that a complaint was filed with the U.S. International Trade Commission on June 10, 2011, under section 337 of the Tariff Act of 1930, as amended, 19 U.S.C. 1337, on behalf of Cypress Semiconductor Corporation of San Jose, California. An amended complaint was filed on June 27, 2011 and a letter supplementing the amended complaint was filed on June 28, 2011. A second amended complaint was filed on July 13, 2011. The second amended complaint alleges violations of section 337 based upon the importation into the United States, the sale for importation, and the sale within the United States after importation of certain static random access memories and products containing same by reason of infringement of certain claims of U.S. Patent No. 6,534,805 (“the `805 patent”); U.S. Patent No. 6,651,134 (“the `134 patent”); U.S. Patent No. 7,142,477 (“the `477 patent”); and U.S. Patent No. 6,262,937 (“the `937 patent”). The second amended complaint further alleges that an industry in the United States exists as required by subsection (a)(2) of section 337.

The complainant requests that the Commission institute an investigation and, after the investigation, issue an exclusion order and cease and desist orders.

ADDRESSES: The second amended complaint and supplement, except for any confidential information contained therein, are available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Docket Services, U.S. International Trade Commission, telephone (202) 205-1802.

Authority: The authority for institution of this investigation is contained in section 337 of the Tariff Act of 1930, as amended, and in section 210.10 of the Commission's Rules of Practice and Procedure, 19 CFR 210.10 (2011).

Scope of Investigation: Having considered the amended complaint, the U.S. International Trade Commission, on July 21, 2011, Ordered That—

(1) Pursuant to subsection (b) of section 337 of the Tariff Act of 1930, as amended, an investigation be instituted to determine whether there is a violation of subsection (a)(1)(B) of section 337 in the importation into the United States, the sale for importation, or the sale within the United States after importation of certain static random access memories and products containing same that infringe one or more of claims 1, 2, and 4-6 of the `805 patent; claims 1, 2, and 12-15 of the `134 patent; claims 8 and 9 of the `477 patent; and claims 1, 2, 6, 12, and 13 of the `937 patent, and whether an industry in the United States exists as required by subsection (a)(2) of section 337;

(2) For the purpose of the investigation so instituted, the following are hereby named as parties upon which this notice of investigation shall be served:

(a) The complainant is:

Cypress Semiconductor Corporation, 198 Champion Court, San Jose, CA 95134.

(b) The respondents are the following entities alleged to be in violation of section 337, and are the parties upon which the amended complaint is to be served:

GSI Technology, Inc., 1213 Elko Drive, Sunnyvale, CA 94089.

Alcatel-Lucent, 54, rue La Boétie, 75008 Paris, France.

Alcatel-Lucent USA, Inc., 600-700 Mountain Avenue, Murray Hill, NJ 07974.

Telefonaktiebolaget LM Ericsson, Torshamnsgatan 23, Kista, Stockholm, SE-164 83, Sweden.

Ericsson Inc., 6300 Legacy Drive, Plano, TX 75024.

Motorola Solutions, Inc., 1303 East Algonquin Road, Schaumburg, IL 60196.

Motorola Mobility, Inc., 600 North U.S. Highway 45, Libertyville, IL 60048.

Arrow Electronics, Inc., 50 Marcus Drive, Melville, NY 11747.

Nu Horizons Electronics Corp., 70 Maxess Road, Melville, NY 11747.

Cisco Systems, Inc., 170 W. Tasman Drive, San Jose, CA 95134.

Hewlett Packard Company/Tipping Point, 3000 Hanover Street, Palo Alto, CA 94304.

Avnet, Inc., 2211 S. 47th Street, Phoenix, AZ 85034.

Nokia Siemens Networks US, LLC, 6000 Connection Drive, Irving, TX 75039.

Nokia Siemens Networks B.V., Werner von Siemensstraat 7, Zoetermeer, 2712PN, Netherlands.

Tellabs, 1 Tellabs Center, 1415 W. Diehl Road, Naperville, IL 60563.

(3) For the investigation so instituted, the Chief Administrative Law Judge, U.S. International Trade Commission, shall designate the presiding Administrative Law Judge.

The Office of Unfair Import Investigations will not participate as a party in this investigation.

Responses to the second amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the second amended complaint and the notice of investigation. Extensions of time for submitting responses to the second amended complaint and the notice of investigation will not be granted unless good cause therefor is shown.

Failure of a respondent to file a timely response to each allegation in the second amended complaint and in this notice may be deemed to constitute a waiver of the right to appear and contest the allegations of the second amended complaint and this notice, and to authorize the administrative law judge and the Commission, without further notice to the respondent, to find the facts to be as alleged in the second amended complaint and this notice and to enter an initial determination and a final determination containing such findings, and may result in the issuance of an exclusion order or a cease and desist order or both directed against the respondent.

Issued: July 21, 2011.
By order of the Commission.
James R. Holbein,
Secretary to the Commission.

[FR Doc. 2011-19012 Filed 7-27-11; 8:45 am]

BILLING CODE 7020-02-P